CORPORATION FOR NATIONAL AND COMMUNITY SERVICE

Policy Change Regarding the Publication of Notices of Funding Availability

AGENCY: Corporation for National and Community Service.

ACTION: Notice.

SUMMARY: The Corporation for National and Community Service (Corporation) no longer publishes Notices of Funding Availability (NOFAs) in the Federal Register. Instead, all Corporation NOFAs are synopsized and posted at the government-wide Internet site, http://Grants.gov, in accordance with the policy directive issued by the Office of Management and Budget (OMB). The full NOFA associated with a synopsis posted at Grants.gov may be accessed by following the universal resource locator (URL) link included in the synopsis, or by visiting the Corporation's Web site.

EFFECTIVE DATE: March 9, 2005.

FOR FURTHER INFORMATION CONTACT: Marlene Zakai, Director, Office of Grants Policy and Operations, 1201 New York Avenue, NW., Washington, DC, 20525, (202) 606-5000 ext. 536 or by e-mail at mzakai@cns.gov.

SUPPLEMENTARY INFORMATION: On October 8, 2003, OMB issued a policy directive entitled “Requirement to Post Funding Opportunity Announcement Synopses at Grant.gov and Related Data Elements/Format” [68 FR 58146, October 8, 2003]. The directive requires every Federal agency that awards discretionary grants and cooperative agreements to post synopses of its funding opportunity announcements in standard format on the Internet at http://Grants.gov or such Web site/Internet address that may be identified by OMB. A key purpose for establishing a single government-wide Web site is to provide prospective grant applicants the opportunity to locate funding opportunities in one place rather than having to search for announcements in multiple locations. Shortly after OMB issued the directive, the Corporation began posting synopses of its NOFAs at Grants.gov. Each Corporation synopsis includes information on how to obtain the full NOFA, as well as a ULR link to the full NOFA posted on the Corporation's own Web site. The Corporation has determined that posting its funding announcements at Grants.gov and on its own Web site is both effective and efficient. Therefore, the Corporation has discontinued the policy of publishing NOFAs in the Federal Register.

Dated: March 3, 2005.
Marlene Zakai,
Director, Office of Grants Policy and Operations.

[FR Doc. 05-4589 Filed 3-8-05; 8:45 am]

BILLING CODE 6050-$$-P